COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds a service to the Procurement List that will be provided by the nonprofit agency employing persons who are blind or have other severe disabilities, and deletes products and services from the Procurement List previously furnished by such agencies.

DATES: Date added to and deleted from the Procurement List: November 25, 2018.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Addition

On 7/27/2018 (83 FR 145), the Committee for Purchase From People Who Are Blind or Severely Disabled published notice of proposed addition to the Procurement List.

After consideration of the material presented to it concerning capability of qualified nonprofit agency to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing a small entity to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Grounds Maintenance Service

Mandatory for: U.S. Air Force, Cannon Air Force Base, 110 Alison Avenue, Cannon AFB, NM

Mandatory Source of Supply: CW Resources, Inc., New Britain, CT

Contracting Activity: Dept of the Air Force, FA4855 27 SOCONS LGC

Deletions

On 9/7/2018 (83 FR 174), 9/14/2018 (83 FR 179), and 9/21/2018 (83 FR 184), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s): 8140-01-004-9410—Container, Wood, Rocket Motor

Mandatory Source of Supply: Helena Industries, Inc., Helena, MT

Contracting Activity: NAVAIR WARFARE CTR Aircraft Div LKE, Joint Base MDL, NJ

NSN(s)—Product Name(s): 5365-01-138-6660—Spacer, Sleeve

Mandatory Source of Supply: Arizona Industries for the Blind, Phoenix, AZ

Contracting Activity: Defense Logistics Agency Troop Support

NSN(s)—Product Name(s):

MR 10681—Bib, Baby, Halloween

MR 10683—Socks, Halloween

MR 10684—Gloves, Halloween

MR 10685—Party Favors, Halloween, Spiders and Webs

MR 10686—Party Favors, Halloween, Witch's Fingers

MR 10687—Party Favors, Halloween, Nose and Glasses

MR 10688—Party Favors, Halloween, Fangs

MR 10689—Party Favors, Halloween, Mini Spiral Note Book

MR 10690—Party Favors, Halloween, Sticky Eyes

MR 10679—Baster, Bottletop

MR 10668—Jar, Drinking, 19 oz., Licensed

MR 10664—Bowl, Cereal and Sipping, Sesame Street

MR 10665—Holder, Juice Box, Sesame Street

MR 385—Kit, Gifts for Santa

Mandatory Source of Supply: Winston-Salem Industries for the Blind, Inc., Winston-Salem, NC

Contracting Activity: Defense Commissary Agency

NSN(s)—Product Name(s): 8475-01-217-7456—Pad, Nape

Mandatory Source of Supply: Cambria County Association for the Blind and Handicapped, Johnstown, PA

Contracting Activity: Defense Logistics Agency Troop Support

NSN(s)—Product Name(s):

8415-01-576-8355—Pants, Loft, Type 2 Level 7, PCU, Army, Woodland Camouflage, XXXLL

8415-01-577-0103—Vest, Loft, Level 7, PCU, Army, Woodland Camouflage, XS

8415-01-576-9714—Vest, Loft, Level 7, PCU, Army, Desert Camouflage, XS

8415-01-576-9978—Vest, Loft, Level 7, PCU, Army, Desert Camouflage, SR

8415-01-576-9990—Vest, Loft, Level 7, PCU, Army, Desert Camouflage, ML

8415-01-576-9992—Vest, Loft, Level 7, PCU, Army, Desert Camouflage, LR

8415-01-577-0052—Vest, Loft, Level 7, PCU, Army, Desert Camouflage, LL

8415-01-577-0058—Vest, Loft, Level 7, PCU, Army, Desert Camouflage, XLL

8415-01-577-0068—Vest, Loft, Level 7, PCU, Army, Desert Camouflage, XXL

8415-01-577-0072—Vest, Loft, Level 7, PCU, Army, Desert Camouflage, XXLL

8415-01-577-0083—Vest, Loft, Level 7, PCU, Army, Desert Camouflage, XXXL

8415-01-577-0100—Vest, Loft, Level 7, PCU, Army, Desert Camouflage, XXXLL

8415-01-576-8700—Jacket, Loft, Level 7, Type 1, ECWCS, PCU, Army, Desert Camouflage, XS

8415-01-576-8704—Jacket, Loft, Level 7, Type 1, ECWCS, PCU, Army, Desert Camouflage, SR

8415-01-576-8708—Jacket, Loft, Level 7, Type 1, ECWCS, PCU, Army, Desert Camouflage, MR

8415-01-576-8713—Jacket, Loft, Level 7, Type 1, ECWCS, PCU, Army, Desert Camouflage, LR

8415-01-576-9193—Jacket, Loft, Level 7, Type 1, ECWCS, PCU, Army, Desert Camouflage, L

8415-01-576-9190—Jacket, Loft, Level 7, Type 1, ECWCS, PCU, Army, Desert Camouflage, ML

8415-01-576-9187—Jacket, Loft, Level 7, Type 1, ECWCS, PCU, Army, Desert Camouflage, XL

8415-01-576-9202—Jacket, Loft, Level 7, Type 1, ECWCS, PCU, Army, Desert Camouflage, XXL

8415-01-576-9231—Jacket, Loft, Level 7, Type 1, ECWCS, PCU, Army, Desert Camouflage, XLL

8415-01-576-9233—Jacket, Loft, Level 7, Type 1, ECWCS, PCU, Army, Desert Camouflage, XXL

8415-01-576-9243—Jacket, Loft, Level 7, Type 1, ECWCS, PCU, Army, Desert Camouflage, XXLL

8415-01-576-7734—Pants, Loft, Type 2 Level 7, PCU, Army, Desert Camouflage, XS

8415-01-576-7751—Pants, Loft, Type 2 Level 7, PCU, Army, Desert Camouflage, SR

8415-01-576-7754—Pants, Loft, Type 2 Level 7, PCU, Army, Desert Camouflage, MR

8415-01-576-7761—Pants, Loft, Type 2 Level 7, PCU, Army, Desert Camouflage, ML

8415-01-576-7769—Pants, Loft, Type 2 Level 7, PCU, Army, Desert Camouflage, LR

8415-01-576-7775—Pants, Loft, Type 2 Level 7, PCU, Army, Desert Camouflage, LL

8415-01-576-7780—Pants, Loft, Type 2 Level 7, PCU, Army, Desert Camouflage, XL

8415-01-576-7943—Pants, Loft, Type 2 Level 7, PCU, Army, Desert Camouflage, XLL

8415-01-576-7945—Pants, Loft, Type 2 Level 7, PCU, Army, Desert Camouflage, XXL

8415-01-576-8329—Pants, Loft, Type 2 Level 7, PCU, Army, Desert Camouflage, XXLL

8415-01-577-0108—Vest, Loft, Level 7, PCU, Army, Woodland Camouflage, SR

8415-01-577-0115—Vest, Loft, Level 7, PCU, Army, Woodland Camouflage, MR

8415-01-577-0120—Vest, Loft, Level 7, PCU, Army, Woodland Camouflage, ML

8415-01-577-0127—Vest, Loft, Level 7, PCU, Army, Woodland Camouflage, LR

8415-01-577-0159—Vest, Loft, Level 7, PCU, Army, Woodland Camouflage, LL

8415-01-577-0163—Vest, Loft, Level 7, PCU, Army, Woodland Camouflage, XL

8415-01-577-0165—Vest, Loft, Level 7, PCU, Army, Woodland Camouflage, XLL

8415-01-577-0167—Vest, Loft, Level 7, PCU, Army, Woodland Camouflage, XXL

8415-01-577-0169—Vest, Loft, Level 7, PCU, Army, Woodland Camouflage, XXLL

8415-01-577-0174—Vest, Loft, Level 7, PCU, Army, Woodland Camouflage, XXXL

8415-01-577-0177—Vest, Loft, Level 7, PCU, Army, Woodland Camouflage, XXXLL

8415-01-576-9249—Jacket, Loft, Type 1 Level 7, PCU, Army, Woodland Camouflage, XS

8415-01-576-9759—Jacket, Loft, Level 7, Type 1, ECWCS, PCU, Army, Woodland Camouflage, SR

8415-01-576-9761—Jacket, Loft, Level 7, Type 1, ECWCS, PCU, Army, Woodland Camouflage, MR

8415-01-576-9764—Jacket, Loft, Level 7, Type 1, ECWCS, PCU, Army, Woodland Camouflage, ML

8415-01-576-9767—Jacket, Loft, Level 7, Type 1, ECWCS, PCU, Army, Woodland Camouflage, LR

8415-01-576-9776—Jacket, Loft, Type 1 Level 7, PCU, Army, Woodland Camouflage, XL

8415-01-576-9781—Jacket, Loft, Type 1 Level 7, PCU, Army, Woodland Camouflage, XLL

8415-01-576-9785—Jacket, Loft, Type 1 Level 7, PCU, Army, Woodland Camouflage, XXL

8415-01-576-9788—Jacket, Loft, Type 1 Level 7, PCU, Army, Woodland Camouflage, XXLL

8415-01-576-9791—Jacket, Loft, Type 1 Level 7, PCU, Army, Woodland Camouflage, XXXL

8415-01-576-9794—Jacket, Loft, Type 1 Level 7, PCU, Army, Woodland Camouflage, XXXLL

8415-01-576-8380—Pants, Loft, Type 2 Level 7, PCU, Army, Woodland Camouflage, XS

8415-01-576-8429—Pants, Loft, Type 2 Level 7, PCU, Army, Woodland Camouflage, SR

8415-01-576-8438—Pants, Loft, Type 2 Level 7, PCU, Army, Woodland Camouflage, MR

8415-01-576-9152—Pants, Loft, Type 2 Level 7, PCU, Army, Woodland Camouflage, LR

8415-01-576-9155—Pants, Loft, Type 2 Level 7, PCU, Army, Woodland Camouflage, LL

8415-01-576-9173—Pants, Loft, Level 7, PCU, Army, Woodland Camouflage, XXL

8415-01-576-9183—Pants, Loft, Level 7, PCU, Army, Woodland Camouflage, XXLL

8415-01-576-9648—Pants, Loft, Level 7, PCU, Army, Woodland Camouflage, XXXL

8415-01-576-9652—Pants, Loft, Level 7, PCU, Army, Woodland Camouflage, XXXLL

8415-01-576-9987—Vest, Loft, Level 7, PCU, Army, Desert Camouflage, MR

8415-01-577-0055—Vest, Loft, Level 7, PCU, Army, Desert Camouflage, XL

8415-01-576-8533—Pants, Loft, Type 2 Level 7, PCU, Army, Woodland Camouflage, ML

8415-01-576-9199—Jacket, Loft, Level 7, Type 1, ECWCS, PCU, Army, Desert Camouflage, XLL

8415-01-576-8344—Pants, Loft, Type 2 Level 7, PCU, Army, Desert Camouflage, XXXL

8415-01-576-9775—Jacket, Loft, Level 7, Type 1, ECWCS, PCU, Army, Woodland Camouflage, LL

8415-00-NSH-3123—Drawers, PCU, Army, Level 1 FR Boxer Shorts, Brown, SR

8415-00-NSH-3124—Drawers, PCU, Army, Level 1 FR Boxer Shorts, Brown, MR

8415-00-NSH-3125—Drawers, PCU, Army, Level 1 FR Boxer Shorts, Brown, LR

8415-00-NSH-3126—Drawers, PCU, Army, Level 1 FR Boxer Shorts, Brown, LL

8415-00-NSH-3127—Drawers, PCU, Army, Level 1 FR Boxer Shorts, Brown, XLR

8415-00-NSH-3128—Drawers, PCU, Army, Level 1 FR Boxer Shorts, Brown, XLL

8415-00-NSH-3129—Drawers, PCU, Army, Level 1 FR Boxer Shorts, Brown, XXLR

8415-01-584-1682—Vest, Loft, Level 7, PCU, Army, Multi Camouflage, XSR

8415-01-584-1686—Vest, Loft, Level 7, PCU, Army, Multi Camouflage, SR

8415-01-584-1696—Vest, Loft, Level 7, PCU, Army, Multi Camouflage, ML

8415-01-584-1709—Vest, Loft, Level 7, PCU, Army, Multi Camouflage, LR

8415-01-584-1712—Vest, Loft, Level 7, PCU, Army, Multi Camouflage, LL

8415-01-584-1734—Vest, Loft, Level 7, PCU, Army, Multi Camouflage, XL

8415-01-584-1722—Vest, Loft, Level 7, PCU, Army, Multi Camouflage, XLL

8415-01-584-1743—Vest, Loft, Level 7, PCU, Army, Multi Camouflage, XXL

8415-01-584-1875—Vest, Loft, Level 7, PCU, Army, Multi Camouflage, XXLL

8415-01-584-1869—Vest, Loft, Level 7, PCU, Army, Multi Camouflage, XXXL

8415-01-584-1865—Vest, Loft, Level 7, PCU, Army, Multi Camouflage, XXXLL

8415-01-584-1923—Jacket, Loft, Type 1 Level 7, PCU, Army, Multi Camouflage, XS

8415-01-584-1930—Jacket, Loft, Type 1 Level 7, PCU, Army, Multi Camouflage, SR

8415-01-584-1975—Jacket, Loft, Type 1 Level 7, PCU, Army, Multi Camouflage, ML

8415-01-584-1995—Jacket, Loft, Type 1 Level 7, PCU, Army, Multi Camouflage, LR

8415-01-584-1997—Jacket, Loft, Type 2 Level 7, PCU, Army, Multi Camouflage, LL

8415-01-584-1918—Jacket, Loft, Type 1 Level 7, PCU, Army, Multi Camouflage, XL

8415-01-584-2005—Jacket, Loft, Type 2 Level 7, PCU, Army, Multi Camouflage, XLL

8415-01-584-2018—Jacket, Loft, Type 1 Level 7, PCU, Army, Multi Camouflage, XXL

8415-01-584-2002—Jacket, Loft, Type 2 Level 7, PCU, Army, Multi Camouflage, XXLL

8415-01-584-2000—Jacket, Loft, Type 1 Level 7, PCU, Army, Multi Camouflage, XXXL

8415-01-584-4410—Pants, Loft, Level 7, PCU, Army, Multi Camouflage, XS

8415-01-584-4418—Pants, Loft, Level 7, PCU, Army, Multi Camouflage, SR

8415-01-584-4421—Pants, Loft, Level 7, PCU, Army, Multi Camouflage, MR

8415-01-584-4424—Pants, Loft, Level 7, PCU, Army, Multi Camouflage, ML

8415-01-584-4426—Pants, Loft, Level 7, PCU, Army, Multi Camouflage, LR

8415-01-584-4431—Pants, Loft, Level 7, PCU, Army, Multi Camouflage, LL

8415-01-584-4441—Pants, Loft, Level 7, PCU, Army, Multi Camouflage, XLL

8415-01-584-4446—Pants, Loft, Level 7, PCU, Army, Multi Camouflage, XXL

8415-01-584-4448—Pants, Loft, Level 7, PCU, Army, Multi Camouflage, XXLL

8415-01-584-4455—Pants, Loft, Level 7, PCU, Army, Multi Camouflage, XXXL

8415-01-584-4462—Pants, Loft, Level 7, PCU, Army, Multi Camouflage, XXXLL

8415-01-584-4434—Pants, Loft, Level 7, PCU, Army, Multi Camouflage, XL

8415-01-584-1692—Vest, Loft, Level 7, PCU, Army, Multi Camouflage, MR

8415-01-584-1971—Jacket, Loft, Type 1 Level 7, PCU, Army, Multi Camouflage, MR

Mandatory Source of Supply: Southeastern Kentucky Rehabilitation Industries, Inc., Corbin, KY

Contracting Activity: Army Contracting Command—Aberdeen Proving Ground, Natick Contracting Division

Services

Service Type: Janitorial/Custodial Service

Mandatory for: Cherry Capital Airport System Support Center, General Aviation Terminal Bldg., 1220 Airport Access Road, 2nd Floor, Traverse City, MI

Mandatory Source of Supply: Grand Traverse Industries, Inc., Traverse City, MI

Contracting Activity: Federal Aviation Administration, FAA

Service Type: Switchboard Operation Service

Mandatory for: VA Medical Clinic: 25 North Spruce, Colorado Springs, CO

Mandatory Source of Supply: Bayaud Industries, Inc., Denver, CO

Contracting Activity: Veterans Affairs, Department of, 259-Network Contract OFC 19(00259)

Service Type: Food Service Attendant Service

Mandatory for: Schofield Barracks: Building 3004, Fort Shafter, HI

Mandatory Source of Supply: Opportunities and Resources, Inc., Wahiawa, HI

Contracting Activity: DEPT OF THE ARMY, 0413 AQ HQ

Patricia Briscoe,
Deputy Director, Business Operations (Pricing and Information Management).

[FR Doc. 2018-23467 Filed 10-25-18; 8:45 am]

BILLING CODE 6353-01-P